DEPARTMENT OF LABOR

Employment and Training Administration

[TA-W-60,086]

Ford Motor Company Product Development and Engineering Center Including On-Site Leased Workers From Roush Management, LLC, Dearborn, MI; Amended Notice of Revised Determination On Reconsideration

In accordance with Section 223 of the Trade Act of 1974 (19 U.S.C. 2273), and Section 246 of the Trade Act of 1974 (26 U.S.C. 2813), as amended, the Department of Labor issued a Notice of Revised Determination on Reconsideration on August 8, 2007. The notice was published in the Federal Register on August 20, 2007 (72 FR 46515-46516).

At the request of a petitioner, the Department reviewed the Notice of Revised Determination on Reconsideration for workers of the subject firm. The workers are in direct support of production of numerous production assembly plants of Ford Motor Company. All of these production facilities were certified eligible for adjustment assistance during April through December 2006.

New information shows that workers leased workers from Roush Management LLC were employed on-site at the Dearborn, Michigan location of Ford Motor Company, Product Development Center. The Department has determined that these workers were sufficiently under the control of the subject firm to be considered leased workers.

Based on these findings, the Department is amending this revised determination to include workers leased from Roush Management LLC working on-site at the Dearborn, Michigan location of the subject firm.

The intent of the Department's certification is to include all workers employed at Ford Motor Company, Product Development and Engineering Center, Dearborn, Michigan who were adversely affected by increased imports.

The amended notice applicable to TA-W-60,086 is hereby issued as follows:

All workers of Ford Motor Company, Product Development and Engineering Center, including on-site leased workers from Roush Management LLC, Dearborn, Michigan, who became totally or partially separated from employment on or after September 14, 2005, through August 8, 2009, are eligible to apply for adjustment assistance under Section 223 of the Trade Act of 1974, and are also eligible to apply for alternative trade adjustment assistance under Section 246 of the Trade Act of 1974.

Signed at Washington, DC, this 30th day of January 2009.
Elliott S. Kushner,
Certifying Officer, Division of Trade Adjustment Assistance.

[FR Doc. E9-3030 Filed 2-12-09; 8:45 am]

BILLING CODE 4510-FN-P